FARM CREDIT ADMINISTRATION

Farm Credit Administration Board; Regular Meeting

AGENCY: Farm Credit Administration.

SUMMARY: Notice is hereby given, pursuant to the Government in the Sunshine Act (5 U.S.C. 552b(e)(3)), of the regular meeting of the Farm Credit Administration Board (Board).

Date and Time: The regular meeting of the Board will be held at the offices of the Farm Credit Administration in McLean, Virginia, on February 14, 2008, from 9 a.m. until such time as the Board concludes its business.

FOR FURTHER INFORMATION CONTACT: Roland E. Smith, Secretary to the Farm Credit Administration Board, (703) 883-4009, TTY (703) 883-4056.

ADDRESSES: Farm Credit Administration, 1501 Farm Credit Drive, McLean, Virginia 22102-5090.

SUPPLEMENTARY INFORMATION: This meeting of the Board will be open to the public (limited space available). In order to increase the accessibility to Board meetings, persons requiring assistance should make arrangements in advance. The matters to be considered at the meeting are:

Open Session

A. Approval of Minutes

• January 10, 2008

B. New Business

• Consideration and Referral of Supervisory Strategies and Enforcement Actions

• Merger of Sacramento Valley Farm Credit ACA into Farm Credit West ACA

• Bookletter BL-055—Floor Nomination Procedures for System Associations and Banks

C. Reports

• Funding Approval Report

• Office of Management Services Quarterly Report

Dated: February 6, 2008.
Roland E. Smith,
Secretary, Farm Credit Administration Board.

[FR Doc. 08-605 Filed 2-6-08; 2:53 pm]

BILLING CODE 6705-01-P